DEPARTMENT OF ENERGY

Federal Energy Regulatory Commission

Combined Notice of Filings # 1

October 10, 2008.

Take notice that the Commission received the following electric corporate filings:

Docket Numbers: EC09-4-000.

Applicants: Lehman Brothers Commodity Services Inc.

Description: Joint Application for Authorization under Section 203 FPA and Request for Expedited Action and Confidential Treatment.

Filed Date: 10/09/2008.

Accession Number: 20081009-5074.

Comment Date: 5 p.m. Eastern Time on Thursday, October 23, 2008.

Take notice that the Commission received the following electric rate filings:

Docket Numbers: ER03-1316-004.

Applicants: Palama, LLC.

Description: Palama, LLC submits an application for determination of Category 1 Status, and motion to accepting filing out-of-time.

Filed Date: 10/08/2008.

Accession Number: 20081010-0045.

Comment Date: 5 p.m. Eastern Time on Wednesday, October 29, 2008.

Docket Numbers: ER07-1194-001.

Applicants: Castlebridge Energy Group LLC.

Description: Castlebridge Energy Group, LLC submits an amendment to the 8/13/08 filing of Second Substitute First Revised Sheet 1 to FERC Electric Tariff, Original Volume 1, to be effective 8/14/08.

Filed Date: 10/08/2008.

Accession Number: 20081010-0060.

Comment Date: 5 p.m. Eastern Time on Wednesday, October 29, 2008.

Docket Numbers: ER08-799-003.

Applicants: Consolidated Edison Co. of New York, Inc.

Description: Consolidated Edison Co submits revised tariff sheets to its 9/19/08 errata filing.

Filed Date: 10/09/2008.

Accession Number: 20081010-0156.

Comment Date: 5 p.m. Eastern Time on Thursday, October 30, 2008.

Docket Numbers: ER08-1202-002.

Applicants: Huntrise Energy Fund LLC.

Description: Huntrise Energy Fund LLC submits an amendment to its Petition for Acceptance of Initial Tariff, Waivers and Blanket Authority filed on 6/19/08.

Filed Date: 10/08/2008.

Accession Number: 20081009-0098.

Comment Date: 5 p.m. Eastern Time on Wednesday, October 29, 2008.

Docket Numbers: ER08-1304-001.

Applicants: Northeast Utilities Service Company.

Description: Public Service Company of New Hampshire submits an Amended and Restated Design, Engineering, and Procurement for Noble Granite Reliable Wind Park etc Substitute Original Service Agreement IA-NU-11 etc.

Filed Date: 10/09/2008.

Accession Number: 20081010-0142.

Comment Date: 5 p.m. Eastern Time on Thursday, October 30, 2008.

Docket Numbers: ER09-4-001.

Applicants: Krayn Wind LLC.

Description: Krayn Wind LLC's supplemental information to its Petition for Order Accepting Market Based Rate Tariff and Granting Waivers and Blanket Approvals filed on 10/1/08 and Substitute Original Sheet 1 et al. to FERC Electric Tariff, Original Volume 1.

Filed Date: 10/09/2008.

Accession Number: 20081010-0141.

Comment Date: 5 p.m. Eastern Time on Thursday, October 20, 2008.

Docket Numbers: ER09-11-001; OA08-13-000.

Applicants: New York Independent System Operator, Inc.

Description: New York Independent System Operator, Inc submits an errata tariff sheet to correct a formatting error that was inadvertently included in its 10/1/08 filing, designated as First Revised Sheet 112F etc.

Filed Date: 10/09/2008.

Accession Number: 20081010-0144.

Comment Date: 5 p.m. Eastern Time on Thursday, October 30, 2008.

Docket Numbers: ER09-14-001.

Applicants: NSTAR Electric Company.

Description: Errata of NSTAR Electric Company's to 10/2/08 rate filing.

Filed Date: 10/06/2008.

Accession Number: 20081006-5082.

Comment Date: 5 p.m. Eastern Time on Monday, October 27, 2008.

Docket Numbers: ER09-38-000.

Applicants: AES Energy Storage, LLC.

Description: AES Energy Storage, LLC submits an application for acceptance of market-based rate tariff & granting of waivers & blanket authorizations; request for shortened comment period, expedited consideration and prior notice waiver.

Filed Date: 10/08/2008.

Accession Number: 20081010-0046.

Comment Date: 5 p.m. Eastern Time on Wednesday, October 29, 2008.

Docket Numbers: ER09-39-000.

Applicants: Southwest Power Pool, Inc.

Description: Southwest Power Pool, Inc submits a compliance filing revising its Open Access Transmission Tariff.

Filed Date: 10/08/2008.

Accession Number: 20081009-0105.

Comment Date: 5 p.m. Eastern Time on Wednesday, October 29, 2008.

Docket Numbers: ER09-40-000.

Applicants: Westar Energy, Inc.

Description: Westar Energy, Inc submits a notice of cancellation of a Supplemental Generation Agreement with the City of Sabetha, Kansas.

Filed Date: 10/08/2008.

Accession Number: 20081009-0104.

Comment Date: 5 p.m. Eastern Time on Wednesday, October 29, 2008.

Docket Numbers: ER09-41-000.

Applicants: Westar Energy, Inc.

Description: Westar Energy, Inc submits a notice of cancellation of a Supplemental Generation Agreement with the City of Holton, Kansas.

Filed Date: 10/08/2008.

Accession Number: 20081009-0100.

Comment Date: 5 p.m. Eastern Time on Wednesday, October 29, 2008.

Docket Numbers: ER09-42-000.

Applicants: Westar Energy, Inc.

Description: Westar Energy, Inc submits a notice of cancellation of a Supplemental Generation Agreement with the City of Minneapolis, Kansas.

Filed Date: 10/08/2008.

Accession Number: 20081009-0099.

Comment Date: 5 p.m. Eastern Time on Wednesday, October 29, 2008.

Docket Numbers: ER09-45-000.

Applicants: American Electric Power Service Corporation.

Description: AEP Operating Companies submits a seventh Revision to the Interconnection and Local Delivery Agreement with Wabash Valley Power Authority.

Filed Date: 10/08/2008.

Accession Number: 20081010-0047.

Comment Date: 5 p.m. Eastern Time on Wednesday, October 29, 2008.

Docket Numbers: ER09-46-000.

Applicants: Quachita Power, LLC.

Description: Quachita Power, LLC submits notice of cancellation of their FERC Electric Tariff, Second Revised Volume 1.

Filed Date: 10/08/2008.

Accession Number: 20081010-0048.

Comment Date: 5 p.m. Eastern Time on Wednesday, October 29, 2008.

Docket Numbers: ER09-50-000.

Applicants: Westar Energy, Inc.

Description: Westar Energy, Inc submits a notice of cancellation of a Supplemental Generation Agreement with the City of Burlingame, Kansas.

Filed Date: 10/09/2008.

Accession Number: 20081010-0152.

Comment Date: 5 p.m. Eastern Time on Thursday, October 30, 2008.

Docket Numbers: ER09-51-000.

Applicants: Westar Energy, Inc.

Description: Westar Energy, Inc submits a notice of cancellation of a Supplemental Generation Agreement with the City of Herington, Kansas.

Filed Date: 10/09/2008.

Accession Number: 20081010-0153.

Comment Date: 5 p.m. Eastern Time on Thursday, October 30, 2008.

Docket Numbers: ER09-52-000.

Applicants: Westar Energy, Inc.

Description: Westar Energy, Inc submits a notice of cancellation of a Supplemental Generation Agreement with the City of Osage City, Kansas.

Filed Date: 10/09/2008.

Accession Number: 20081010-0154.

Comment Date: 5 p.m. Eastern Time on Thursday, October 30, 2008.

Docket Numbers: ER09-53-000.

Applicants: Westar Energy, Inc.

Description: Westar Energy, Inc submits a notice of cancellation of a Supplemental Generation Agreement with the City of Wamego, Kansas.

Filed Date: 10/09/2008.

Accession Number: 20081010-0155.

Comment Date: 5 p.m. Eastern Time on Thursday, October 30, 2008.

Docket Numbers: ER09-55-000.

Applicants: Entergy Services, Inc.

Description: Entergy Services, Inc submits an amended interconnection and operating agreement.

Filed Date: 10/09/2008.

Accession Number: 20081010-0157.

Comment Date: 5 p.m. Eastern Time on Thursday, October 30, 2008.

Docket Numbers: ER09-56-000.

Applicants: Virginia Electric and Power Company.

Description: Virginia Electric and Power Co submits the Revised Generator Interconnection and Operating Agreements.

Filed Date: 10/09/2008.

Accession Number: 20081010-0147.

Comment Date: 5 p.m. Eastern Time on Thursday, October 30, 2008.

Take notice that the Commission received the following open access transmission tariff filings:

Docket Numbers: OA08-20-002.

Applicants: Tampa Electric Company.

Description: Tampa Electric Company submits Substitute Second Revised Sheet 116 to FERC Electric Tariff, Third Revised Volume 4, to be effective 10/7/08 under OA08-20.

Filed Date: 10/09/2008.

Accession Number: 20081010-0143.

Comment Date: 5 p.m. Eastern Time on Thursday, October 30, 2008.

Take notice that the Commission received the following public utility holding company filings:

Docket Numbers: PH09-3-000.

Applicants: GDF SUEZ S.A.

Description: FERC-65A Exemption Notification under PH09-3.

Filed Date: 10/10/2008.

Accession Number: 20081010-5058.

Comment Date: 5 p.m. Eastern Time on Friday, October 31, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-24823 Filed 10-17-08; 8:45 am]

BILLING CODE 6717-01-P